DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995, this notice seeks comments concerning the National Flood Insurance Program (NFIP) Community Rating System (CRS) Coordinator's Manual, accompanying worksheets and application form. The CRS Coordinator's Manual is the primary document used by CRS participating communities that describes the CRS program and the community-based floodplain management activities performed by participating communities.

SUPPLEMENTARY INFORMATION: The NFIP CRS was established by Congress in section 541, Community Rating System and Incentives for Community Floodplain Management, of the National Flood Insurance Reform Act of 1994. The CRS was established to (1) Reduce flood losses; (2) facilitate accurate insurance rating, and; (3) promote the awareness of flood insurance. The CRS encourages these goals by providing flood insurance premium discounts to policy holders in those communities that implement activities and programs that directly support the goals stated above. Communities are only eligible to participate in the CRS if they have been found to be compliant with the floodplain management requirements of the NFIP, as determined by the applicable FEMA Regional Office. The data collected from CRS communities, as described in the CRS Coordinator's Manual and by using the worksheets, is used and is necessary to evaluate if the community is implementing the activities to which it has agreed.

Collection of Information

Title: Community Rating System (CRS) Program—Application Worksheets and Commentary.

Type of Information Collection: Revision of a currently approved collection.

OMB Number: 1660-0022.

Form Numbers: FEMA FORM 81-73, Community Rating System Application.

Abstract: CRS Application Cover Page, Recertification Worksheet and Modification/Cycle Cover Page are used by a community to apply or renew CRS program participation and specify what activities will be performed by the community. CRS Activity Worksheets are used by the community to provide details in the selected activities based on the CRS Coordinator's Manual.

Affected Public: State, Local or Tribal Government.

Estimated Total Annual Hour Burden: 8,450 hours.

Annual Hour Burden
Project/activity | Number of respondents | Frequency of responses | Hour burden per response (hours) | Annual responses | Total annual hour burden (hours)
| (A) | (B) | (C) | (D) = (A × B) | (E) = (C × D)
Application Form/Worksheet | 150 | 1 | 31 | 150 | 4,650
Maintenance Form/Worksheet | 950 | 1 | 4 | 950 | 3,800
Total | 1,100 |  |  | 1,100 | 8,450

Estimated Cost: There is no expected cost to the respondents. The estimated annual cost to the Federal Government is $2,288,792.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before May 11, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact William H. Lesser, Program Specialist, Mitigation Division, Federal Emergency Management Agency, at (202) 646-2807 for additional information. You may contact the Records Management Branch for copies of the proposed collection of information at facsimile number (202) 646-3347 or e-mail address: FEMA-Information-Collections@dhs.gov.

Dated: March 6, 2007.
John A. Sharetts-Sullivan,
Chief, Records Management and Privacy Information Resources Management Branch, Information Technology Services Division, Federal Emergency Management Agency, Department of Homeland Security.

[FR Doc. E7-4430 Filed 3-9-07; 8:45 am]

BILLING CODE 9110-11-P